SMALL BUSINESS ADMINISTRATION

[Declaration of Disaster #P008]

State of North Carolina

As a result of the President's major disaster declaration for Public Assistance on March 27, 2003 the U.S. Small Business Administration is activating its disaster loan program only for private non-profit organizations that provide essential services of a governmental nature. I find that Alamance, Caswell, Forsyth, Granville, Guilford, Orange, Person, Rockingham and Stokes Counties in the State of North Carolina constitute a disaster area due to damages caused by an ice storm occurring on February 27, 2003 and continuing through February 28, 2003. Applications for loans for physical damage as a result of this disaster may be filed until the close of business on May 27, 2003 at the address listed below or other locally announced locations: U.S. Small Business Administration, Disaster Area 2 Office, One Baltimore Place, Suite 300, Atlanta, GA 30308.

The interest rates are:

For Physical Damage

Non-Profit Organizations without Credit Available Elsewhere—3.189%

Non-Profit Organizations with Credit Available Elsewhere—5.500%

The number assigned to this disaster for physical damage is P00811.

(Catalog of Federal Domestic Assistance Program Nos. 59008)
Dated: March 31, 2003.
Herbert L. Mitchell,
Associate Administrator for Disaster Assistance.

[FR Doc. 03-8509 Filed 4-7-03; 8:45 am]

BILLING CODE 8025-01-P